ENVIRONMENTAL PROTECTION AGENCY

[FRL-9337-01-OW]

Notice of Availability of the Deepwater Horizon Oil Spill Texas Trustee Implementation Group Draft Restoration Plan/Environmental Assessment #2: Restoration of Wetlands, Coastal, and Nearshore Habitats; Nutrient Reduction; Oysters; Sea Turtles; and Birds

AGENCY: Environmental Protection Agency (EPA).

ACTION: Notice of availability; request for public comments.

SUMMARY: In accordance with the Oil Pollution Act of 1990 (OPA) and the National Environmental Policy Act (NEPA), the federal and state natural resource trustee agencies for the Texas Trustee Implementation Group (Texas TIG) prepared the Draft Restoration Plan/Environmental Assessment #2: Restoration of Wetlands, Coastal, and Nearshore Habitats; Nutrient Reduction; Oysters; Sea Turtles; and Birds (Draft RP/EA #2). The Draft RP/EA #2 describes and proposes restoration project alternatives considered by the Texas TIG to restore natural resources and ecological services injured or lost as a result of the Deepwater Horizon oil spill. The Texas TIG evaluated these alternatives under criteria set forth in the OPA natural resource damage assessment (NRDA) regulations and evaluated the environmental consequences of the restoration alternatives in accordance with the NEPA. The proposed projects are consistent with the restoration alternatives selected in the Deepwater Horizon Oil Spill: Final Programmatic Damage Assessment and Restoration Plan and Final Programmatic Environmental Impact Statement (PDARP/PEIS). This notice informs the public of the availability of the Draft RP/EA #2 and provides an opportunity for the public to submit comments on the document.

DATES: The Texas TIG will consider public comments received on or before March 28, 2022.

Public Webinar: The Texas TIG will conduct a public webinar on March 9, 2022, at 6 p.m. Central Standard Time to facilitate public review and comment on the Draft RP/EA #2. The public webinar will include a presentation on the Draft RP/EA #2. Public comments will be taken during the public webinar. The public may register for the webinar at https://attendee.gotowebinar.com/register/2667653123715836432. After registering, participants will receive a confirmation email with instructions for joining the webinar. The presentation will be posted on the web after the webinar is conducted.

ADDRESSES:

Obtaining Documents: You may download the Draft RP/EA #2 at https://www.gulfspillrestoration.noaa.gov/restoration-areas/texas. Alternatively, you may request a compact disc (CD) of the Draft RP/EA #2 (see FOR FURTHER INFORMATION CONTACT). You may also view the document at any of the public facilities listed at https://www.gulfspillrestoration.noaa.gov/restoration-areas/texas.

Submitting Comments: You may submit comments on the Draft RP/EA #2 by one of the following methods:

• Via the Web: https://parkplanning.nps.gov/TXRP2.

• Via U.S. Mail: U.S. Fish and Wildlife Service, P.O. Box 29649, Atlanta, GA 30345.

• During the Public Webinar: Comments may be provided by the public during the webinar on March 9, 2022.

Once submitted, comments cannot be edited or withdrawn. The Texas TIG may publish any comment received regarding the document. Do not submit electronically any information you consider to be Confidential Business Information (CBI) or other information whose disclosure is restricted by statute. Multimedia submissions (audio, video, etc.) must be accompanied by a written comment. The written comment is considered the official comment and should include discussion of all points you wish to make. The Texas TIG will generally not consider comments or comment contents located outside of the written submission (i.e., on the web, cloud, or other file sharing system). Please be aware that your entire comment, including your personal identifying information, will become part of the public record. Please note that mailed comments must be postmarked on or before the comment deadline of March 28, 2022.

FOR FURTHER INFORMATION CONTACT:

• Texas—Angela Schrift; Angela.Schrift@tpwd.texas.gov; 512-389-8755.

• EPA—Douglas Jacobson; Jacobson.Doug@epa.gov; 214-665-6692.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in the release of an unprecedented volume of oil and other discharges from the rig and from the wellhead on the seabed. The Deepwater Horizon oil spill is the largest offshore oil spill in U.S. history, discharging millions of barrels of oil over a period of 87 days. The Trustees conducted the natural resource damage assessment for the Deepwater Horizon oil spill under the OPA. Under the OPA, federal and state agencies act as trustees on behalf of the public to assess natural resource injuries and losses and to determine the actions required to compensate the public for those injuries and losses. The OPA further instructs the designated trustees to develop and implement a plan for the restoration, rehabilitation, replacement, or acquisition of the equivalent of the injured natural resources under their trusteeship, including the loss of use and services from those resources from the time of injury until the time restoration to baseline (the resource quality and conditions that would exist if the spill had not occurred) is complete.

The Deepwater Horizon oil spill Trustees are:

• U.S. Environmental Protection Agency (EPA);

• U.S. Department of the Interior (DOI), as represented by the National Park Service, U.S. Fish and Wildlife Service, and Bureau of Land Management;

• National Oceanic and Atmospheric Administration (NOAA), on behalf of the U.S. Department of Commerce;

• U.S. Department of Agriculture (USDA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas Parks and Wildlife Department (TPWD), General Land Office (TGLO), and Commission on Environmental Quality (TCEQ).

On April 4, 2016, the Trustees reached and finalized a settlement of their natural resource damage claims with BP in a Consent Decree approved by the United States District Court for the Eastern District of Louisiana. Pursuant to that Consent Decree, restoration projects in the Texas Restoration Area are chosen and managed by the Texas TIG. The Texas TIG is composed of the following Trustees: TPWD, TGLO, TCEQ, EPA, DOI, NOAA, USDA.

Background

In an October 2020 notice posted at https://www.gulfspillrestoration.noaa.gov/2020/10/submit-your-ideas-texas-restoration-area-planning, the Texas TIG requested public input on restoration project ideas in the Texas Restoration Area within the following restoration types: Wetlands, Coastal, and Nearshore Habitats, Nutrient Reduction, Oysters, Sea Turtles, and Birds. The Texas TIG reviewed and considered these restoration project ideas in developing the Draft RP/EA #2.

Overview of the Draft RP/EA

The Draft RP/EA #2 is being released in accordance with the OPA, NRDA implementing regulations, and the NEPA. In the Draft RP/EA #2, the Texas TIG presents to the public the Texas TIG's most recent plan to restore natural resources and ecological services injured or lost as a result of the Deepwater Horizon oil spill. The Draft RP/EA #2 evaluates a total of eighteen restoration project alternatives within the Texas Restoration Area. Of those, thirteen are identified as preferred alternatives. The Draft RP/EA #2 also evaluates a no-action alternative. The Draft RP/EA #2 proposes the following preferred project alternatives for each restoration type:

Wetlands, Coastal, and Nearshore Habitats

• Bird Island Cove Habitat Restoration—Construction;

• Bahia Grande Channel F Hydrologic Restoration;

• Follets Island Habitat Acquisition Phase 2; and

• Galveston Island Habitat Acquisition.

Nutrient Reduction

• Petronila Creek Constructed Wetlands Planning; and

• Petronila Creek Watershed Nutrient Reduction Initiative.

Oysters

• Landscape Scale Oyster Restoration in Galveston Bay.

Sea Turtles

• Upper Texas Coast Sea Turtle Rehabilitation Facility; and

• Lancha Sea Turtle Mitigation Plan.

Birds

• Laguna Vista Rookery Island Habitat Protection;

• Jones Bay Oystercatcher Habitat Restoration;

• San Antonio Bay Bird Island; and

• Texas Breeding Shorebird and Seabird Stewardship.

The total estimated cost of the preferred alternatives is approximately $39 million. One or more alternatives may be selected for implementation by the Texas TIG. Additional restoration planning for the Texas Restoration Area will continue.

Next Steps

The public is encouraged to review and comment on the Draft RP/EA #2. A public webinar is scheduled to help facilitate the public review and comment process. After the public comment period ends, the Texas TIG will consider the comments received before finalizing the Final RP/EA #2. A summary of comments received and the Texas TIG's responses and any revisions to the document, as appropriate, will be included in the final document.

Administrative Record

The documents comprising the Administrative Record for the Draft RP/EA #2 can be viewed electronically at https://www.doi.gov/deepwaterhorizon/adminrecord.

Authority

The authority for this action is the Oil Pollution Act of 1990 (33 U.S.C. 2701 et seq.), its implementing NRDA regulations found at 15 CFR part 990, and the NEPA (42 U.S.C. 4321 et seq.).

Benita Best-Wong,
Deputy Assistant Administrator, Office of Water.

[FR Doc. 2022-03885 Filed 2-24-22; 8:45 am]

BILLING CODE 6560-50-P